DEPARTMENT OF COMMERCE

National Oceanic and Atmospheric Administration

RIN 0648-XG584

Request for Public Comment Regarding an Administrative Law Judge's Recommended Decision on a Proposed Waiver and Regulations Governing the Taking of Marine Mammals; Extension of Public Comment Period

AGENCY: National Marine Fisheries Service (NMFS), National Oceanic and Atmospheric Administration (NOAA), Commerce.

ACTION: Notice; extension of public comment period.

SUMMARY: NMFS announces the extension of the public comment period on the Administrative Law Judge's recommended decision on NMFS' proposal to issue a waiver and regulations under the Marine Mammal Protection Act to allow the Makah Indian Tribe to take a limited number of Eastern North Pacific gray whales for ceremonial and subsistence purposes. We announced a 20-day comment period to end on October 19, 2021. Today, we extend the public comment period on the recommended decision by 25 days to November 13, 2021. Comments previously submitted need not be resubmitted.

DATES: The deadline for the receipt of comments is extended from October 19, 2021 until November 13, 2021.

ADDRESSES: You may submit comments on this document, identified by NOAA-NMFS-2019-0037, by any of the following methods:

• Electronic Submission: Submit all electronic public comments via the Federal e-Rulemaking Portal. Go to www.regulations.gov/docket?D=NOAA-NMFS-2019-0037, click the “Comment Now!” icon, complete the required fields, and enter or attach your comments.

• Mail: Attn: Grace Ferrara, NMFS West Coast Region, 7600 Sand Point Way NE, Seattle, WA 98115. Include the identifier “NOAA-NMFS-2019-0037” in the comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Jaclyn Taylor, Office of Protected Resources, National Marine Fisheries Service, 1315 East-West Highway, Silver Spring, MD 20910; tel: (301) 427-8402; email: jaclyn.taylor@noaa.gov.

SUPPLEMENTARY INFORMATION: NMFS has proposed to issue a waiver and regulations under the Marine Mammal Protection Act to allow the Makah Indian Tribe to take a limited number of Eastern North Pacific gray whales for ceremonial and subsistence purposes. A hearing to consider the proposed waiver and regulations took place on November 14-21, 2019, in Seattle, Washington before Administrative Law Judge George J. Jordan. On September 23, 2021, Judge Jordan transmitted his recommended decision to NMFS along with the hearing transcript and other required documentation. On September 29, 2021, we announced a 20-day comment period on the recommended decision. During the comment period, we received requests to extend the public comment period. We considered the request and concluded that a 25-day extension should allow sufficient time for the public and the parties to submit comments. We are therefore extending the close of the public comment period from October 19, 2021 to November 13, 2021.

Authority: 16 U.S.C. 1371 et seq.

Dated: October 12, 2021.
Samuel D. Rauch, III,
Deputy Assistant Administrator for Regulatory Programs, National Marine Fisheries Service.

[FR Doc. 2021-22563 Filed 10-15-21; 8:45 am]

BILLING CODE 3510-22-P